DEPARTMENT OF AGRICULTURE

Submission for OMB Review; Comment Request

February 5, 2003.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Washington, DC 20503 and to Departmental Clearance Office, USDA, OCIO, Mail Stop 7602, Washington, DC 20250-7602. Comments regarding these information collections are best assured of having their full effect if received within 30 days of this notification. Copies of the submission(s) may be obtained by calling (202) 720-6746.

An agency may not conduct or sponsor a collection of information unless the collection of information displays a currently valid OMB control number and the agency informs potential persons who are to respond to the collection of information that such persons are not required to respond to the collection of information unless it displays a currently valid OMB control number.

Farm Service Agency

Title: Debt Settlement Policies and Procedures.

OMB Control Number: 0560-0146.

Summary of Collection: Debt Collection Improvement Act (DCIA) of 1996 and 4 CFR part 102, Federal Claim Collection standard and other applicable regulation require each Federal agency to collect debts owed it, and to employ cost effective and efficient procedures and methods to identify, report and collect debts. Provisions under the Federal Claims Collection Standards and the DCIA allow the debtor upon receiving a notification letter and unable to pay debt owed to the Federal Government in one lump sum, to forward a written request and financial statement to the Farm Service Agency (FSA) and Commodity Credit Corporation (CCC) for establishing an agreed repayment plan in the promissory note using form CCC-279, Promissory Note.

Need and Use of the Information: FSA will collect information on the debtor's assets, liabilities, income and expenses when a debtor requests to enter into an installment agreement to settle their debt. Based on that information a determination can be made on whether the debtor can pay the debt in one lump sum or an installment is necessary. Without this financial information FSA/CC would have no method of allowing debtors to pay their debts in installments while still ensuring that the government's financial interests are protected.

Description of Respondents: Individuals or households; Farms; Federal Government.

Number of Respondents: 250.

Frequency of Responses: Reporting: On occasion.

Total Burden Hours: 125.

Farm Service Agency

Title: 7 CFR 1951-T Disaster Set-aside Program.

OMB Control Number: 0560-0164.

Summary of Collection: 7 CFR part 1951, subpart T, “Disaster Set-Aside Program,” used in support of the Farm Service Agency (FSA) Farm Loan Program (FLP). The Disaster Set-Aside Program (DSA) is made available through the authority granted by the Secretary of Agriculture under the Consolidated Farm and Rural Development Act (7 U.S.C. 1981a) (The Act). The set-aside program is designated to assist borrowers in financial distress that operated a farm or ranch in a political subdivision, typically a county that was declared or designated a disaster area. DSA allows eligible borrowers who are unable to make the payments to quickly eliminate their immediate financial stress. Under this program, FSA farm loan program borrowers can receive immediate financial relief by moving one annual installment for each loan to the end of the loan term. The installment set-aside may be the one due immediately after the disaster or, if that installment is paid to the neglect of other creditors or family living and operating expenses, then the next scheduled installment may be set-aside. FSA will collect information on the borrowers asset values, expenses and income.

Need and Use of the Information: The information is required of FSA farm borrowers and collected by FSA loan servicing officials to determine that disaster victims need payment relief and to support the approval of a set-aside request.

Description of Respondents: Farms; Individuals or households; Business or other for-profit.

Number of Respondents: 1855.

Frequency of Responses: Reporting: On occasion; Annually.

Total Burden Hours: 7,595.

Risk Management Agency

Title: General Administration Regulations; Interpretations of Statutory and Regulatory Provisions.

OMB Control Number: 0563-0055.

Summary of Collection: Section 533 of the 1998 Research Act requires the Federal Crop Insurance Corporation (FCIC) to publish regulation on how FCIC will provide a final agency determination in response to certain inquiries. This section provides procedures when FCIC fails to respond in the established time, the interpretation of the request is considered correct for the crop year. It becomes necessary for the requester, or respondent, to identify himself so they can be provided a response and state his interpretation of the regulation for which he is seeking a final agency interpretation.

Need and Use of the Information: FCIC will use the requester's information to provide a response. The respondent detailed interpretation of the regulation is required to comply with the requirements of Sec. 533 of the 1998 Research Act and to clarify the boundaries of the request to FCIC. If the requested information is not collected with each submission, FCIC would not be able to comply with the statutory mandates.

Description of Respondents: Business or other for-profit; Farm.

Number of Respondents: 45.

Frequency of Responses: Reporting: On occasion.

Total Burden Hours: 78.

Risk Management Agency

Title: Standard Reinsurance Agreement Plan of Qperations.

OMB Control Number: 0563-NEW.

Summary of Collection: The Federal Crop Insurance Act, Title 7 U.S.C. Chapter 36 Sec. 1508(k) authorizes the Federal Crop Insurance to provide reinsurance to insurance providers approved by FCIC that insure producers of any agricultural commodity under one or more plans acceptable to FCIC. The Standard Reinsurance Agreement is a financial agreement between FCIC and the company to provide subsidy and reinsurance on eligible crop insurance. The Plan of Operation provides the information the insurer is required to file for the initial and each subsequent reinsurance year.

Need and Use of the Information: FCIC uses the information as a basis for the approval of the insurer's financial and operational capability of delivering the crop insurance program and for evaluating the insurer's performance regarding implementation of procedures for training and quality control. If the information is not collected, FCIC would not be able to reinsure the crop business.

Description of Respondents: Business or other for-profit; Farms; Federal Government.

Number of Respondents: 18.

Frequency of Responses: Reporting: Annually.

Total Burden Hours: 8370.

Rural Business-Cooperative Service

Title: 1890 Land Grant Institutions: Rural Entrepreneurial Program Outreach Initiative.

OMB Control Number: 0570-0041.

Summary of Collection: The Rural Business Service mission is to improve the quality of life in rural America by financing community facilities and businesses, providing technical assistance and creating effective strategies for rural development. Funding has been allocated to support the Outreach Initiative developed to help future entrepreneurs and businesses in rural communities that have the most economic need. Funds are awarded on a competitive basis using specific selection criteria.

Need and Use of the Information: The information collected will be used to determine (1) eligibility; (2) the specific purpose for which the funds will be utilized; (3) time frames or dates by which activities surrounding the use of funds will be accomplished; (4) feasibility of the project; (5) applicants' experience in managing similar activities; and (6) the effectiveness and innovation used to address critical issues vital tot he development and sustainability of businesses. Without this information there would be no basis on which to award funds.

Description of Respondents: Business or other for-profit; Farms; State, Local or Tribal Government.

Number of Respondents: 18.

Frequency of Responses: Reporting: Quarterely.

Total Burden Hours: 762.

Rural Utilities Service

Title: 7 CFR Part 1724, Electric Engineering Architectural Services and Design Policies.

OMB Control Number: 0572-0118.

Summary of Collection: The Rural Electrification Act of 1936, 7 U.S.C. 901 et seq., gives authorization to the Rural Utilities Service (RUS) to make loans in several States and Territories of the United States for rural electrification and the furnishing and improving of electric energy to persons in rural areas. Title 7 CFR 1724 requires each borrower to select a qualified architect to perform certain architectural services and to use the designated form that provides for these services. The agency has developed standardized contractual forms used by borrowers to contract for services.

Need and Use of the Information: The information collected from the forms is on an as needed basis or when the individual borrower undertakes certain projects. The standardization of the forms by RUS has resulted in substantial savings to borrowers by reducing preparation of the documentation and the costly review by the government.

Description of Respondents: Business or other for-profit; Not-for-profit.

Number of Respondents: 81.

Frequency of Responses: Reporting: On occasion; Quarterly.

Total Burden Hours: 161.

Animal and Plant Health Inspection Service

Title: Animal Welfare—Guinea Pigs, Hamsters, and Rabbits.

OMB Control Number: 0579-0092.

Summary of Collection: The Laboratory Animal Welfare Act (AWA) enacted in 1966 and amended in 1970 and 1990 requires the U.S. Department of Agriculture to regulate the human care and handling of most warm-blooded animals used for research or exhibition purposes; sold as pets, or transported in commerce. The Animal and Plant Health Inspection Service (APHIS) has the responsibility for enforcing the Animal Welfare Act and its provisions. APHIS collects information and requires certain recordkeeping in order to review and evaluate program compliance by regulated facilities and ensures a workable enforcement system to carry out the requirements of the AWA. Specific information requirements relate to certifications of shipping containers used to transport guinea pigs, hamsters, and rabbits as well as the conditions (e.g., temperature) necessary during transport, and acclimation certificates.

Need and Use of the Information: APHIS collects information from regulated facilities including dealers, exhibitors, and research facilities, intermediate handlers and carriers, and from accredited veterinarians to ensure proper handling and care for guinea pigs, hamsters, and rabbits. Without this information, APHIS would be unable to detect violations and take appropriate actions consistent with the AWA.

Description of Respondents: Business or other for-profit.

Number of Respondents: 1,470.

Frequency of Responses: Recordkeeping; Reporting: On occasion.

Total Burden Hours: 260.

Animal and Plant Health Inspection Service

Title: Importation of Gypsy Moth Host Materials from Canada.

OMB Control Number: 0579-0142.

Summary of Collection: The United States Department of Agriculture (USDA) is responsible for preventing plant diseases or insect pests from entering into the United States, preventing the spread of pests not widely distributed in the United States, and eradicating those imported pests when eradication is feasible. The Plant Protection Act authorizes the Department to carry out this mission. The regulations implementing these Acts are contained in Title 7 of the Code of Federal Regulations, Part 310: Foreign Quarantine Notices. The Plant Protection and Quarantine Division of USDA's Animal and Plant Health Inspection Service (APHIS) are responsible for ensuring that these regulations are enforced. Implementing these regulations is necessary in order to prevent injurious insect pests and plant diseases from entering into the United States, a situation that could produce serious consequences for U.S. agriculture. APHIS will collect information using phytosanitary certificates, certificates of origin, and signed statements from individuals both within and outside the United States.

Need and Use of the Information: APHIS will collect information to ensure that importing foreign logs, trees, shrubs, and other articles do not harbor plant or insect pests such as the gypsy moth. If the information is not collected it would cripple APHIS' ability to ensure that trees, shrubs, logs, and a variety of other items imported from Canada do not harbor gypsy moths.

Description of Respondents: Business or other for-profit; Individuals or households; Not-for-profit institutions; Farms; State, Local or Tribal Government.

Number of Respondents: 2,146.

Frequency of Responses: Reporting: On occasion.

Total Burden Hours: 81.

Agricultural Marketing Service

Title: Regulations Governing the Inspection and Grading of Manufactured or Processed Dairy Products—Recordkeeping.

OMB Control Number: 0581-0110.

Summary of Collection: The Agricultural Marketing Act of 1946 directs the Department to develop programs that will provide and enable the marketing of agricultural products. One of these programs is the USDA voluntary inspection and grading program for dairy products where these dairy products are graded according to U.S. grade standards by a USDA grader. The dairy products to be graded may be identified with the USDA grade mark. Dairy processors, buyers, retailers, institutional users, and consumers have requested that such a program be developed to assure the uniform quality of dairy products purchased. In order for any service program to perform satisfactorily, there must be written guides and rules, which in this case are regulations for the provider and user.

Need and Use of the Information: The Agricultural Marketing Service will collect information to ensure that the dairy inspection program products are produced under sanitary conditions and buyers are purchasing a quality product. The information collected through recordkeeping are routinely reviewed and evaluated during the inspection of the dairy plant facilities for USDA approval. Without laboratory testing results required by recordkeeping, the inspectors would not be able to evaluate the quality of dairy products.

Description of Respondents: Business or other for-profit.

Number of Respondents: 487.

Frequency of Responses: Recordkeeping.

Total Burden Hours: 1,388.

Agricultural Marketing Service

Title: Regulations for Inspection of Eggs.

OMB Control Number: 0581-0113.

Summary of Collection: Congress enacted the Egg Products Inspection Act (21 U.S.C. 1031-1059) (EPIA) to provide a mandatory inspection program to assure egg products are processed under sanitary conditions, are wholesome, unadulterated, and properly labeled; to control the disposition of dirty and checked shell eggs; to control unwholesome, adulterated, and inedible egg products and shell eggs that are unfit for human consumption; and to control the movement and disposition of imported shell eggs and egg products that are unwholesome and inedible. Regulations developed under 7 CFR part 57 provide the requirements and guidelines for the Department and industry needed to obtain compliance. The Agricultural Marketing Service (AMS) will collect information using several forms. Forms used to collect information to provide method for measuring workload, record of compliance and non compliance and a basis to monitor the utilization of funds.

Need and Use of the Information: AMS will use the information to assure compliance with the Act and regulations, to take administrative and regulatory action and to develop and revise cooperative agreements with the States, which conduct surveillance inspections of shell egg handlers and processors. If the information is not collected, AMS would not be able to control the processing, movement, and disposition of restricted shell eggs and egg products and take regulatory action in case of noncompliance.

Description of Respondents: Business or other for-profit; Federal Government; State, Local or Tribal Government.

Number of Respondents: 1,004.

Frequency of Responses: Recordkeeping; Reporting: On occasion; Quarterly.

Total Burden Hours: 1,749.

Food Safety and Inspection Service

Title: Consumer Data to Support Risk Assessments, Regulation Development, and Food Safety Education Initiatives.

OMB Control Number: 0583-NEW.

Summary of Collection: The Food Safety and Inspection Service (FSIS) has been delegated the authority to exercise the functions of the Secretary as provided in the Federal Meat Inspection Act (FMIA) (21 U.S.C. 601 et seq.), the Poultry Products Inspection Act (PPIA) (21 U.S.C. 451 et seq.), and the Egg Products Inspection Act (EPIA) (21 U.S.C. 1031-1056). These statutes mandate that FSIS protect the public by ensuring that meat, poultry, and egg products are safe, wholesome, unadulterated, and properly labeled and packaged. FSIS will conduct a collection of information from U.S. consumers on their food safety practices, concerns, and awareness specific to meat, poultry, and egg products using the FSIS Consumer Survey. The data is needed to support the new administration's program improvement agenda, as well as protect the public health by significantly reducing the prevalence of food borne hazard from meat, poultry, and egg products.

Need and Use of the Information: FSIS will use the data collected in the consumer survey to improve: food safety risk assessment, food safety education campaigns, and product labeling. FSIS will also use the data to support its annual regulatory agenda. Without the data to improve the estimates for food safety risk assessments and data to better target food safety education campaigns, FSIS will have difficulty achieving its goals.

Description of Respondents: Individuals or households.

Number of Respondents: 2400.

Frequency of Responses: Reporting: On occasion.

Total Burden Hours: 600.

Food and Nutrition Service

Title: Report of School Program Operations.

OMB Control Number: 0584-0002.

Summary of Collection: The Food and Nutrition Service (FNS) administers the National School Lunch Program, the School Breakfast Program, and the Special Milk Program as mandated by the National School Lunch Act, as amended, and the Child Nutrition Act of 1966, as amended. Information on school program operations is collected from state agencies on a monthly basis to monitor and make adjustments to State agency funding requirements. FNS uses form FNS-10 to collect data although 95 percent of the information is collected through electronic means.

Need and Use of the Information: FNS collects quantity information from State agencies on the number of meals served under the various food programs. Information is categorized in a number of areas and States are asked to provide their estimates along with actual data. FNS uses the information collected on school operations to assess the progress of the various programs and to make monthly adjustments to State agency funding requirements. If the information was not collected, FNS would be unable to monitor the proper use of program funds.

Description of Respondents: State, Local, or Tribal Government.

Number of Respondents: 62.

Frequency of Responses: Reporting: Monthly; Annually.

Total Burden Hours: 95,232.

Food and Nutrition Service

Title: Report of the Child and Adult Care Food Program.

OMB Control Number: 0584-0078.

Summary of Collection: The Child and Adult Care Food Program is mandated by section 17 of the National School Lunch Act, as amended. Program implementation is contained in 7 CFR part 226. The Food and Nutrition Service (FNS) collects information using Form FNS-44 to use in managing the Child and Adult Care Food Program. This report is vital since it is the only means by which FNS can obtain current information necessary to make payments to State agency letters of credit, and to plan for future levels of program funding.

Need and Use of the Information: FNS will collect information in order to analyze progress in the program and to make monthly adjustments to State agency funding requirements. If data is not collected, FNS would be unable to monitor the proper use of program funds.

Description of Respondents: State, Local or Tribal Government.

Number of Respondents: 53.

Frequency of Responses: Reporting: Quarterly: Semi-annually; Monthly.

Total Burden Hours: 5,724.

Food and Nutrition Service

Title: Monthly Claim for Reimbursement.

OMB Control Number: 0584-0284.

Summary of Collection: The Child Nutrition Act of 1966 requires that educational agencies disburse and appropriate funds during the fiscal year for the purposes of carrying out provisions of the Special Milk Program (SMP). The National School Lunch Act requires that State educational agency appropriated funds for any fiscal year for the purposes of fulfilling the earned reimbursement set forth in National School Lunch, Breakfast, and Special Milk Programs. The Food and Nutrition Service will use the monthly claim reimbursement form FNS-806A and 806B to fulfill the earned requirements identified in these programs, National School Lunch Program (NSLP), SMP, and the School Breakfast Program (SBP).

Need and Use of the Information: The information is collected electronically from school food authorities that participate in NSLP, School Breakfast Program (SBP), and SMP programs. The forms contain meal and cost data collected from authorized program participants. Also, these forms are an essential part of the accounting system used by the subject programs to ensure proper reimbursement. This information is collected monthly because of the constant fluctuation in school enrollment and program participation. Program participants would not receive the monthly reimbursement earned and the Agency would lose program accountability, if this information were collected less frequently.

Description of Respondents: State, Local or Tribal Government.

Number of Respondents: 209.

Frequency of Responses: Record keeping; Reporting: Monthly.

Total Burden Hours: 1,735.

Food and Nutrition Service

Title: Disaster Food Stamp Program.

OMB Control Number: 0584-0336.

Summary of Collection: Section 5(h) of the Food Stamp Act of 1977 along with other related legislative authorities of the Secretary of Agriculture to establish temporary emergency standards of eligibility for victims of a disaster so that food assistance can be obtained. This assistance becomes effective in areas designated as a “major” disaster in order to address temporary food needs of families affected. The Food and Nutrition Service (FNS) is delegated the responsibility to administer the program and State agencies handle enrollment and general operation. In order to determine whether an individual is eligible for emergency food stamp assistance an application form must be completed. The State agencies must comply with certain reporting requirements to reconcile the distribution of food stamps and account for discrepancies.

Need and Use of the Information: FNS, through the State agencies, will collect information from the public to ensure that individuals who apply for emergency food stamps are eligible. Without information from these individuals, there would be no means for establishing whether assistance is warranted. State reporting requirements are necessary in order to ensure that States are accountable for the food stamp coupons it maintains and to avoid fraud, waste, and abuse in the Food Stamp Program.

Description of Respondents: State, Local, or Tribal Government; Individuals or households.

Number of Respondents: 6.

Frequency of Responses: Reporting: On occasion.

Total Burden Hours: 60.

Food and Nutrition Service

Title: Food Stamp Pre-Screening Tool.

OMB Control Number: 0584-NEW.

Summary of Collection: Consistent with Section 5 of the Food Stamp Act of 1977, the Food and Nutrition Service (FNS) has initiated this program to enable potential Food Stamp Program applicants to assess their eligibility and the order of magnitude of the potential benefit they may qualify for. This Pre-Screening Tool also enables citizen advocacy groups to help constituents assess their benefit eligibility. This will also help the Food Stamp Program fulfill its role as a means-tested program in accordance with Section 5 of the Food Stamp Act and part 273 of the Food Stamp Program regulations.

Need and Use of the Information: This Food Stamp Program Pre-Screening Tool will be accessible to the public as an online web-based system. The user will be prompted to enter household size, income, expenses and resource information, and the tool will calculate and provide the user with and estimated range of benefits that the household may be eligible to receive. This information will help FNS determine the degree and type of system usage as well as potential areas for further study.

Description of Respondents: Individuals or households; State, Local, or Tribal Government; Not-for-profit institutions.

Number of Respondents: 48,000.

Frequency of Responses: Reporting: On occasion.

Total Burden Hours: 8,400.

Forest Service

Title: The Day Use on the National Forests of Southern California.

OMB Control Number: 0596-0129.

Summary of Collection: The Forest and Rangeland Renewable Resources Research Act of 1978 (Pub. L. 95-307, 92 Stat. 353, as amended; 16 U.S.C. 1600 note, 1641 note, 1641-1647) directs the Secretary of Agriculture to research the multiple uses and products, including recreation of forests and rangelands to facilitate their most effective use. Users of urban proximate National Forests in Southern California come from a variety of ethnic/racial, income, age, educational, and other socio-demographic categories. The activities pursued, sources utilized, and site attributes preferred are just some of the items affected by these differences. Additional information is needed for the managers of the National Forests in Southern California, in part to validate results and in part because of the continuously changing visitor population recreating on the National Forests of Southern California. Without this study the Forest Service (FS) personnel will be ill-equipped to handle management changes required in response to visitor needs and preferences. A direct benefit to the affected public is anticipated through improvements in customer service, more informed recreation management decisions, and increased attention to the diverse customers served by the National Forests. FS will collect information using a questionnaire and face-to-face interviews.

Need and Use of the Information: FS will collect information on gender, age, education, ethnic or racial group affiliation, etc. The information will be used to assist resource managers in their effective management of recreation activities in the region studied. The Wildland Recreation and Urban Cultures Project will use the information to further expand its information base on visitor characteristics, communication, and mitigation of depreciative behaviors, such as vandalism. If the information is not collected, resource managers will have to make species management decisions without the views of the recreating public, who will be impacted by many of those choices.

Description of Respondents: Individuals or households.

Number of Respondents: 600.

Frequency of Responses: Reporting: On occasion.

Total Burden Hours: 150.

Forest Service

Title: Grazing Permit Administration Forms.

OMB Control Number: 0596-0003.

Summary of Collection: Domestic livestock grazing currently exist on approximately 90 million acres of National Forest Service (NFS) lands. This grazing is subject to authorization and administrative oversight by the Forest Service (FS). The information is required for the issuance and administration of grazing permits, including fee collections, on NFS lands as authorized by the Federal Land Policy and Management Act, as amended, and subsequent Secretary of Agriculture Regulation 5 U.S.C. 301, 36 CFR part 222, subparts A and C. The bills for collection of grazing fees are based on the number of domestic livestock grazed on national forest lands and are a direct result of issuance of the grazing permit. Information must be collected on an individual basis and is collected through the permit issuance and administration process. FS will collect information using several forms.

Need and Use of the Information: FS will collect information on the ownership or control of livestock and base ranch property; the need for additional grazing to round out year long ranching operations; and citizenship. The information collected is used by FS in administering the grazing use program on NFS lands. If information is not collected it would be impossible for the agency to administer a grazing use program in accordance with the statutes and regulations.

Description of Respondents: Farms; Business or other for-profit; Individuals or households.

Number of Respondents: 6,000.

Frequency of Responses: Reporting: Annually; Other (as needed basis).

Total Burden Hours: 2,300.

Sondra Blakey,
Departmental Information Collection Clearance Officer.

[FR Doc. 03-3314 Filed 2-10-03; 8:45 am]

BILLING CODE 3410-01-M